DEPARTMENT OF HOMELAND SECURITY

Coast Guard

46 CFR Parts 1, 2, 15, 136, 137, 138, 139, 140, 141, 142, 143, 144, and 199

[Docket No. USCG-2006-24412]

RIN 1625-AB06

Inspection of Towing Vessels

AGENCY: Coast Guard, DHS.

ACTION: Final rule; information collection approval.

SUMMARY: The Coast Guard announces that the Office of Management and Budget (OMB) has approved the collection of information described in the Inspection of Towing Vessels final rule published on June 20, 2016. In that rule, which establishes safety regulations governing the inspection, standards, and safety management systems of towing vessels, we stated that before the Coast Guard could enforce the collection of information requirements in the rule, OMB would need to approve the Coast Guard's request to collect this information. This document announces that approval. On June 23, 2016, OMB approved this Coast Guard request and assigned this collection of information OMB control number 1625-0117.

DATES: On June 23, 2016, OMB approved a new collection of information assigned OMB control number 1625-0117. That approval expires on June 30, 2019. Based on this OMB approval, the Coast Guard may start enforcing applicable collection of information requirements in the Inspection of Towing Vessels final rule published in the Federal Register on June 20, 2016 (81 FR 40004), starting on that rule's effective date, July 20, 2016.

FOR FURTHER INFORMATION CONTACT: If you have questions about this rule, call or email Lieutenant Commander William Nabach, Project Manager, CG-OES-2, Coast Guard, telephone 202-372-1386, email William.A.Nabach@uscg.mil.

SUPPLEMENTARY INFORMATION: On June 23, 2016, the Office of Management and Budget (OMB) approved a new collection of information for the Inspection of Towing Vessels final rule published on June 20, 2016 (81 FR 40004). In that rule, which establishes safety regulations governing the inspection, standards, and safety management systems of towing vessels, we stated that before the Coast Guard could enforce the collection of information requirements in the rule, OMB would need to approve the Coast Guard's request to collect this information. This document announces the approval of that collection which has been assigned OMB control number 1625-0117. OMB's approval of that collection will expire on June 30, 2019.

On July 12, 2016, OMB approved the insertion of “CFR” in the title of the collection of information so it conforms with the title presented in the final rule: Towing Vessels—Title 46 CFR Subchapter M. We have included that notice of action in the docket as well as OMB's June 23, 2016 notice of action.

The Inspection of Towing Vessels final rule becomes effective July 20, 2016, and the Coast Guard may start enforcing that rule's applicable collection of information requirements on that date. As noted in the summary of that rule, certain existing towing vessels subject to this rule will have an additional 2 years before having to comply with most of its requirements, but we anticipate receiving applications from organizations seeking to become third-party organizations soon after the rule becomes effective.

A copy of the two approval memos from OMB and the Inspection of Towing Vessels final rule are in docket USCG-2006-24412 which is available on the Internet by going to http://www.regulations.gov, inserting USCG-2006-24412 in the “Search” box, and clicking “Search.”

This document, which announces approval of the collection of information assigned OMB control number 1625-0117, is issued under authority of 5 U.S.C. 552(a).

Dated: July 14, 2016.
J.G. Lantz,
Director of Commercial Regulations and Standards.

[FR Doc. 2016-17007 Filed 7-18-16; 8:45 am]

BILLING CODE 9110-04-P